NATIONAL SCIENCE FOUNDATION

Correction

AGENCY: National Science Foundation.

ACTION: Correction to notice of availability of a finding of no significant impact.

SUMMARY: On June 23, 2005, the Federal Register published a notice from the National Science Foundation (NSF) regarding availability of a Finding of No Significant Impact for proposed activities in the Arctic. The html link for the notice incorrectly identified the Web links as http://www.nsf.gov/od/opp/arctic/arc—envir/healy—ea.pdf and http://www.nsf.gov/od/opp/arctic/arc—envir/healy—fonsi.pdf, rather than the actual web links, http://www.nsf.gov/od/opp/arctic/arc_envir/healy_ea.pdf and http://www.nsf.gov/od/opp/arctic/arc_envir/healy_fonsi.pdf

DATES: The public notice period ends July 25, 2005.

ADDRESSES: Dr. Polly A. Penhale, Office of Polar Programs, Room 755, National Science Foundation, 4201 Wilson Boulevard Arlington, Virginia 22230, ppenhale@nsf.gov.

FOR FURTHER INFORMATION CONTACT: Dr. Polly A. Penhale, Office of Polar Programs, Room 755, National Science Foundation, 4201 Wilson Boulevard, Arlington, Virginia 22230, ppenhale@nsf.gov.

SUPPLEMENTARY INFORMATION: Notice of availability of a Finding of No Significant Impact for proposed activities in the Arctic was published in the Federal Register on June 23, 2005. That html link for the notice incorrectly identified the Web links as: http://www.nsf.gov/od/opp/arctic/arc—envir/healy—ea.pdf and http://www.nsf.gov/od/opp/arctic/arc—envir/healy—fonsi.pdf. This notice corrects those Web links to the actual Web links, http://www.nsf.gov/od/opp/arctic/arc_envir/healy_ea.pdf and http://www.nsf.gov/od/opp/arctic/arc_envir/healy_fonsi.pdf.

Polly Penhale,
Environmental Officer, Office of Polar Programs.

[FR Doc. 05-12967 Filed 6-30-05; 8:45 am]

BILLING CODE 7555-01-M